DEPARTMENT OF AGRICULTURE

Forest Service

Plumas County Resource Advisory Committee (RAC)

AGENCY: Forest Service, USDA.

ACTION: Notice of Meetings.

SUMMARY: The Plumas County Resource Advisory Committee (RAC) will hold meetings on: January 10, 2003, in Greenville, California; February 21, 2003, in Portola, California; and a third on March 7, 2003, at a location to be announced at a later date. The purpose of the January meeting will be to discuss the Cycle 3 funding process and to review the progress of Cycle 1 projects under the Title 2 provisions of the Secure Rural Schools and Community Self-Determination Act of 2000. The purpose of the February meeting will be to select Cycle 2 projects for recommendation to the Plumas National Forest Supervisor for funding consideration, while the meeting in March will be to review and discuss the Forest Service approved Cycle 2 projects.

DATES and ADDRESSES: The January 10 meeting will take place from 9 a.m.-1:30 p.m., at the Catholic Church Social Hall, 209 Jesse Street, Greenville, California. The February 21 meeting will take place from 9 a.m.-4 p.m., at the Eastern Plumas Health Care Educational building, 500 First Avenue, Portola, California, The March 7 meeting will start at 9 a.m., at a location to be announced at a later date.

FOR FURTHER INFORMATION CONTACT: Lee Anne Schramel Taylor, Forest Coordinator, USDA, Plumas National Forest, P.O. Box 11500/159 Lawrence Street, Quincy, CA, 95971; (530) 283-7850; or by E-MAIL eataylor@fs.fed.us. Final agendas are posted one week prior to the meeting on the Internet at: http://www.fs.r5.fs.fed.us/pay2states/plumas. Prior meeting minutes and agendas are available on the same site.

SUPPLEMENTARY INFORMATION: Agenda items for the January 10 meeting include: (1) Forest Service update regarding RAC general administration, (2) Review Cycle 1 project accomplishments to date; (3) Consider and make decision on Cycle 3 funding cycle; and, (4) Future meeting schedule/logistics/agenda.

The agenda for the February 21 meeting will focus on the review and selection of Cycle 2 projects for recommendation to the Plumas National Forest Supervisor for funding consideration. General RAC administration and future meeting logistics will also be included.

The agenda for the March meeting will include a review and discussion with the Forest Service regarding the approved Cycle 2 projects, along with other items to be determined at the February meeting. The meetings are open to the public and individuals may address the Committee after being recognized by the Chair.

Dated: December 26, 2002.
Robert G. Macwhorter,
Deputy Forest Supervisor.

[FR Doc. 03-44 Filed 1-2-03; 8:45 am]

BILLING CODE 0511-02-M